ENVIRONMENTAL PROTECTION AGENCY

40 CFR Part 52

[EPA-R04-OAR-2022-0367; FRL-10406-02-R4]

Air Plan Approval; South Carolina; Second Planning Period Regional Haze Plan

Correction

In Rule document, 2025-22565, appearing on pages 57636 through 57674, in the issue of Thursday, December 11, 2025, make the following correction:

On page 57636, in the first column, in the in the document heading section, the entry “National Oceanic and Atmospheric Administration” was erroneously added and is hereby removed.

[FR Doc. C1-2025-22565 Filed 12-29-25; 8:45 am]

BILLING CODE 0099-10-D